FEDERAL MINE SAFETY AND HEALTH REVIEW COMMISSION

Sunshine Act Meeting

December 11, 2000.

FEDERAL REGISTER Citation of previous announcement: Vol. 65, No. 236, at 76669, December 7, 2000.

Previously Announced

TIME AND DATE: 2:00 p.m., Tuesday, December 12, 2000.

PLACE: Room 6005, 6th Floor, 1730 K Street, N.W., Washington, D.C.

STATUS: Open.

CHANGES IN THE MEETING: The Commission meeting to consider and act upon Northern Illinois Steel Supply Co., Docket No. LAKE 99-78-RM, etc., has been canceled. No earlier announcement of the cancellation was possible.

Previously Announced

TIME AND DATE: The Commission meeting will commence following upon the conclusion of the Commission meeting to consider Northern Illinois Steel Supply Co., Docket No. LAKE 99-78-RM, etc., which commences at 2:00 p.m. on Tuesday, December 12, 2000.

PLACE: Room 6005, 6th Floor, 1730 K Street, N.W., Washington, D.C.

STATUS: Closed [Pursuant to 5 U.S.C. § 552b(c)(10)].

MATTERS TO BE CONSIDERED: As a result of the cancellation of the Commission meeting to consider Northern Illinois Steel Supply Co., Docket No. LAKE 99-78-RM, etc., the Commission meeting to consider Disciplinary Proceeding, Docket No. D 2000-1, will commence at 2:00 p.m. on Tuesday, December 12, 2000. No earlier announcement of the change in meeting time was possible.

CONTACT PERSON FOR MORE INFO: Jean Ellen (202) 653-5629/(202) 708-9300 for TDD Relay/1-800-877-8339 for toll free.

Jean Ellen,
Chief Docket Clerk.

[FR Doc. 00-32193 Filed 12-13-00; 4:02 pm]

BILLING CODE 6735-01-M